DEPARTMENT OF HEALTH AND HUMAN SERVICES

Administration for Children and Families

Submission for OMB Review; Comment Request

Proposed Projects: Conduct an electronic survey of 2012-funded Family Connection grantees to collect process evaluation data to include as part of the Cross-Site Evaluation.

Title: Cross-site Evaluation Survey 2012 Family Connection Grantees

OMB No.: 0970-NEW

Description: In the interest of providing as complete an evaluation report as possible by the end of FY15, the Children's Bureau has directed the contractor conducting the Cross-site Evaluation to adopt the most efficient means possible to collect process evaluation data from grantees. The proposed electronic survey will replace originally planned in-person and telephone discussions with electronic surveys. This will enable collection of key information on project design, implementation, maintenance, and sustainability from key grantee representatives in an abbreviated amount of time. The quantitative nature of the surveys will enable rapid data analysis and reporting.

Respondents: The Cross-site Evaluation addresses a total of seventeen (17) Family Connection grantees. Four categories of participants will be surveyed: Project Leadership, Service Providers, Project Partners (public child welfare and community agencies), and Evaluators. For each grantee, an average of 20 respondents is anticipated: 4 project leadership, 9 service providers, 2 public child welfare agency representatives, 2 community partner representatives, and 3 evaluators. These numbers of participants, per category, are used in the table below to calculate the number of respondents, across the 17 projects to be surveyed. Differences in burden estimates for the different instruments reflect the number of questions in each.

ANNUAL BURDEN ESTIMATES
Instrument | Number of respondents | Number of responses per respondent | Average burden hours per response | Total burden hours
Project Leadership Protocol | 79 | 1 | .75 | 59.25
Service Provider Protocol | 153 | 1 | .5 | 76.5
Public Child Welfare Partner Protocol | 34 | 1 | .25 | 8.5
Community Partner Protocol | 34 | 1 | .25 | 8.5
Evaluator Protocol | 51 | 1 | .75 | 38.25
Estimated Total Annual Burden Hours: 191.00.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Email: OIRA_SUBMISSION@OMB.EOP.GOV, Attn: Desk Officer for the Administration for Children and Families.

Robert Sargis,
Reports Clearance Officer.

[FR Doc. 2015-02242 Filed 2-4-15; 8:45 am]

BILLING CODE 4184-01-P